DEPARTMENT OF AGRICULTURE

Food and Nutrition Service

7 CFR Part 248

[FNS-2007-0008]

RIN 0584-AD74

WIC Farmers' Market Nutrition Program (FMNP): Nondiscretionary Provisions of Public Law 108-265, the Child Nutrition and WIC Reauthorization Act of 2004

AGENCY: Food and Nutrition Service, USDA.

ACTION: Final rule.

SUMMARY: This is an affirmation by the Department of an interim rule as a final rule, without change amending the WIC Farmers' Market Nutrition Program (FMNP) regulations to codify three FMNP nondiscretionary provisions mandated in the Child Nutrition and WIC Reauthorization Act of 2004. The three nondiscretionary provisions include the option to authorize roadside stands, a reduction in the required amount of State matching funds, and an increase in the maximum Federal benefit level. These changes are intended to increase State agency flexibility in managing the Program. The first two provisions became effective on October 1, 2004, while the increased maximum Federal FMNP benefit level was effective as of June 30, 2004.

DATES: Effective on October 13, 2009 the Department is adopting as a final rule the interim rule published at 73 FR 65246 on November 3, 2008.

FOR FURTHER INFORMATION CONTACT: Debra R. Whitford, Director, Supplemental Food Programs Division, Food and Nutrition Service, USDA, 3101 Park Center Drive, Room 528, Alexandria, VA 22302, (703) 305-2746, or Debbie.Whitford@fns.usda.gov.

SUPPLEMENTARY INFORMATION:

Background

The WIC Farmers' Market Nutrition Program: Nondiscretionary Provisions of Public Law 108-265, the Child Nutrition and WIC Reauthorization Act of 2004, was published on November 3, 2008, as an interim rule in the Federal Register (73 FR 65246). The rule provided a 60 day comment period that ended on January 2, 2009. No comment letters were submitted during the comment period. This interim rule amended the FMNP regulations to codify the three FMNP nondiscretionary provisions exactly as set forth in the Child Nutrition and WIC Reauthorization Act of 2004. The three nondiscretionary provisions include the option to authorize roadside stands, a reduction in the required amount of State matching funds, and an increase in the maximum Federal benefit level. These changes are intended to increase State agency flexibility in managing the Program.

Because the nondiscretionary provisions have been implemented as set forth in the law, they are retained as written in this final rule.

For reasons given in the interim rule, the Department is adopting the interim rule as a final rule without change.

This action also affirms information contained in the interim rule concerning Executive Order 12866, the Regulatory Flexibility Act, Executive Order 12988, and the Paperwork Reduction Act. Further, for this action, the Office of Management and Budget has waived its review under Executive Order 12866.

List of Subjects in 7 CFR Part 248

Food assistance programs, Food donations, Grant programs—Social programs, Indians, Infants and children, Maternal and child health, Nondiscrimination, Nutrition education, Public assistance programs, WIC, Women.

PART 248—WIC FARMERS' MARKET NUTRITION PROGRAM (FMNP)

Accordingly, the Department is adopting as a final rule, without change, the interim rule that amended 7 CFR part 248 and was published at 73 FR 65246 on November 3, 2008.

Dated: August 25, 2009.
Julia Paradis,
Administrator, Food and Nutrition Service.

[FR Doc. E9-21468 Filed 9-10-09; 8:45 am]

BILLING CODE 3410-30-P